NUCLEAR REGULATORY COMMISSION

Regulatory Guide; Issuance, Availability

The Nuclear Regulatory Commission has issued a new guide in its Regulatory Guide Series. This series has been developed to describe and make available to the public such information as methods acceptable to the NRC staff for implementing specific parts of the NRC's regulations, techniques used by the staff in evaluating specific problems or postulated accidents, and data needed by the staff in its review of applications for permits and licenses.

Regulatory Guide 3.72, “Guidance for Implementation of 10 CFR 72.48, Changes, Tests, and Experiments,” has been developed to provide guidance to licensees and holders of Certificates of Compliance on their evaluation of changes proposed to facilities or cask designs licensed under 10 CFR Part 72, “Licensing Requirements for the Independent Storage of Spent Nuclear Fuel and High-Level Radioactive Waste.”

Comments and suggestions in connection with items for inclusion in guides currently being developed or improvements in all published guides are encouraged at any time. Written comments may be submitted to the Rules and Directives Branch, Division of Administrative Services, Office of Administration, U.S. Nuclear Regulatory Commission, Washington, DC 20555. Specific questions on Regulatory Guide 3.72 may be directed to Mr. C.P. Jackson at the NRC at (301)415-2947, email CPJ@NRC.GOV.

Regulatory guides are available for inspection or downloading at the NRC's web site at <WWW.NRC.GOV> under Regulatory Guides and in NRC's Electronic Reading Room (ADAMS System) at the same site; Regulatory Guide 3.72 is under Accession Number ML010710153. Single copies of regulatory guides may be obtained free of charge by writing the Reproduction and Distribution Services Section, U.S. Nuclear Regulatory Commission, Washington, DC 20555-0001, or by fax to (301)415-2289, or by email to <DISTRIBUTION@NRC.GOV>. Issued guides may also be purchased from the National Technical Information Service on a standing order basis. Details on this service may be obtained by writing NTIS, 5285 Port Royal Road, Springfield, VA 22161. Regulatory guides are not copyrighted, and Commission approval is not required to reproduce them.

(5 U.S.C. 552(a))

Dated at Rockville, Maryland, this 20th day of March 2001.
For the Nuclear Regulatory Commission.
Roy P. Zimmerman,
Deputy Director, Office of Nuclear Regulatory Research.

[FR Doc. 01-7876 Filed 3-30-01; 8:45 am]

BILLING CODE 7590-01-P